MISSISSIPPI RIVER COMMISSION

Sunshine Act Meetings

Agency Holding The Meetings: Mississippi River Commission.

Time And Date: 2 p.m., September 27, 2004.

Place: Mississippi River Commission Headquarters Building, 1400 Walnut Street, Vicksburg, MS.

Status: Open to the public for observation, but not for participation.

Matters To Be Considered: The Commission will consider the Bayou Sorrel Lock, Louisiana, Final Feasibility Report and Environmental Impact Statement.

Contact Person For More Information: Mr. Stephen Gambrell, telephone 601-634-5766.

Brenda S. Bowen,
Army Federal Register Liaison Officer.

[FR Doc. 04-20522 Filed 9-7-04; 1:22 pm]

BILLING CODE 3710-6X-M